DEPARTMENT OF HEALTH AND HUMAN SERVICES

Centers for Disease Control and Prevention

Disease, Disability, and Injury Prevention and Control Special Emphasis Panel (SEP): Targeted Evaluation of the President's Emergency Plan for AIDS Relief (PEPFAR) Funded Prevention of Mother-to-Child HIV Transmission (PMTCT), and Adherence to Antiretroviral Therapy (ART) Programs, Contract Solicitation Numbers (CSN) 2006-N-08428, 2006-N-08429, and 2006-N-08430

In accordance with section 10(a)(2) of the Federal Advisory Committee Act (Pub. L. 92-463), the Centers for Disease Control and Prevention (CDC) announces the following meeting:

Name: Disease, Disability, and Injury Prevention and Control Special Emphasis Panel (SEP): Targeted Evaluation of the President's Emergency Plan for AIDS Relief (PEPFAR) Funded Prevention of Mother-to-Child HIV Transmission (PMTCT), and Adherence to Antiretroviral Therapy (ART) Programs, Contract Solicitation Numbers (CSN) 2006-N-08428, 2006-N-08429, and 2006-N-08430.

Time and Date: 8:30 a.m.-9 a.m., June 27, 2006 (Open). 9 a.m.-6 p.m., June 27, 2006 (Closed).

Place: Renaissance Concourse Hotel—Marriott, One Hartsfield Center Parkway, Atlanta, GA 30354, Telephone 404-209-9999.

Status: The meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to “Targeted Evaluation of the PEPFAR Funded PMTCT, and ART Programs,” Contract Solicitation Numbers (CSN) 2006-N-08428, 2006-N-08429, and 2006-N-08430.

For Further Information Contact: Amy L. Sandul, Health Scientist, National Center for HIV, STD, and Tuberculosis Prevention, Centers for Disease Control and Prevention, 1600 Clifton Road NE., MS E-41, Atlanta, GA 30333, Telephone 404.639.6485.

The Director, Management Analysis and Services Office, has been delegated the authority to sign Federal Register notices pertaining to announcements of meetings and other committee management activities, for both CDC and the Agency for Toxic Substances and Disease Registry.

Dated: June 2, 2006.
Alvin Hall,
Director, Management Analysis and Services Office, Centers for Disease Control and Prevention.

[FR Doc. E6-8991 Filed 6-8-06; 8:45 am]

BILLING CODE 4163-18-P